DEPARTMENT OF HOMELAND SECURITY

Coast Guard

[Docket No. USCG-2017-0723]

Public Workshop on Marine Technology and Standards

AGENCY: Coast Guard, DHS.

ACTION: Notice.

SUMMARY: The American Society of Mechanical Engineers, in coordination with the United States Coast Guard, is sponsoring a two-day public workshop on marine technology and standards in Washington, DC. This document provides information regarding the workshop, including registration information. The workshop will provide a unique opportunity for industry groups, classification societies, standards development organizations, government organizations, and other interested members of the public to come together for a professional exchange of information on topics ranging from technological impacts on the marine industry, corresponding coverage in related codes and standards, and government regulations.

DATES: The two-day workshop will be held on Monday, October 16, 2017, and Tuesday, October 17, 2017. The deadline for advance registration is Monday, October 2, 2017.

See SUPPLEMENTARY INFORMATION below for a list of proposed topics, fees, and information on how to register for the workshop.

ADDRESSES: The workshop will be held at the Liaison Capitol Hill hotel in Washington, DC. The hotel is located at 415 New Jersey Avenue NW., Washington, DC. For registration information or to obtain further information about this workshop, visit the USCG Web site at http://www.uscg.mil/marine_event.

FOR FURTHER INFORMATION CONTACT: If you have questions about this document you may contact a USCG/ASME representative via email at workshop@uscg.mil. You may also contact Wayne Lundy, Office of Design and Engineering Standards, USCG, by telephone at (202) 372-1379; or Mr. Joseph S. Brzuszkiewicz, Project Engineering Manager, ASME, by telephone at (212) 591-8533, or email: BrzuszkiewiczJ@asme.org.

SUPPLEMENTARY INFORMATION:

Background and Purpose

The American Society of Mechanical Engineers/United States Coast Guard (ASME/USCG) Workshop on Marine Technology and Standards provides a unique opportunity for classification societies, industry groups, standards development organizations, government agencies, and interested members of the public to come together for a professional exchange of information on topics ranging from technological impacts on the marine industry, corresponding coverage in related codes and standards, and government regulations.

The public workshop is sponsored by the ASME in coordination with the USCG Office of Design and Engineering Standards. ASME is a standards setting organization with wide-ranging volunteer committee membership, which includes USCG-supported personnel who serve as members of various ASME committees in support of USCG missions in maritime safety and environmental protection. The USCG Office of Design and Engineering Standards is responsible for developing and promulgating national regulations and standards that govern the safe design and construction of ships and shipboard equipment, including hull structure, stability, electrical and mechanical systems, lifesaving and fire safety equipment, and related equipment approval and laboratory acceptance.

This workshop is an opportunity for the public to provide expertise on technical matters affecting the marine industry, to leverage new technologies, and to improve future policymaking, standards development, and rulemaking. Public engagement on regulations and design standards enhances both the effectiveness and the quality of policy development.

Topics for the workshop are listed below and include application of various marine technologies to promote safe and environmentally conscious operation of ships and offshore vessels and platforms.

The workshop will be held in Washington, DC, over a two-day period on Monday, October 16, 2017, and Tuesday, October 17, 2017. See ADDRESSES above for event location information.

Topics of Meeting

This workshop comprises a series of panel sessions over a two-day period covering a variety of topics. Proposed topics include:

Transport and Use of Natural Gas

Considers shipboard systems involved in the handling and transport of CNG/LNG as cargo. This panel will also consider the handling and use of natural gas as a shipboard fuel, addressing, among other things, systems, containment, fuel quality, safety considerations. Will also consider recent international and domestic requirements, including environmental considerations.

Use of Alternative Fuels for Ship Systems

Considers containment and handling systems, bunkering systems and safety considerations for fuels other than natural gas. Also considers the latest requirements and standards used by ship owners and designers, including the IMO Gas-Fueled Ships Code (IGF Code). Some examples include biofuels, hydrogen, and methanol. Also considers costs associated with infrastructure, training, operations and maintenance.

Infrastructure for Alternative Energy Sources

Considers international and domestic requirements for infrastructure such as offshore structures and servicing vessels for alternative energy sources such as wind farms and tidal generators.

Offshore Marine Technology

Considers technological advancements in a variety of subjects affecting the offshore industry and the marine transportation system. This includes systems for ensuring the safe and effective offshore exploration and extraction of energy resources, including dynamic positioning, hazardous areas, and safety systems. Will consider lessons learned from operations as well as application of related standards.

Shipboard Technologies for Energy Efficiency

Considers technologies and best practices for improving energy efficiency in the design and operation of ship equipment and systems. Potential topics include Energy Efficiency Design Index, Energy Efficiency Operational Indicator, and Ship Energy Efficiency Management Plan.

Polar Ship Design, Construction, and Operation

Consider requirements within the recently adopted IMO Polar Code and the IACS Polar Class rules. This includes vessel design considerations for low temperature environments. Also considers experiences of organizations operating ships in Polar Waters.

Marine Environmental Protection (MARPOL 73/78)

Considers issues, technologies, equipment and standards under the Annexes to the International Convention for the Prevention of Pollution from Ships (MARPOL 73/78). Topics include pollution prevention requirements and standards for oil, sewage, garbage, ballast water, and air emissions.

Pressure Vessels for Human Occupancy

Considers operation, training, safety, design and maintenance issues as well as the requirements within the ASME PVHO-1 & PVHO-2 Code and the IMO guidelines for diving systems (IMO Code of Safety for Diving Systems) and passenger submersibles (MSC/Circ.981—Guidelines for the design, construction and operation of passenger submersible craft).

Autonomous Ship Technology, Automation & Cybersecurity

Considers issues/advancements regarding automation and autonomous ship technology, as well as the intercept with cybersecurity.

Regulatory/Classification Society Developments

Considers latest international and domestic developments and requirements regarding safety and environmental protection impacting the maritime community.

Web Sites

For additional information on this workshop, visit the USCG Web site at http://www.uscg.mil/marine_event.

Registration

Registration is now open; to register for this workshop, visit the ASME Web site: https://urldefense.proofpoint.com/v2/url?u=https-3A__www.asme.org_events_uscoastguard&d=DwIFAg&c=0NKfg44GVknAU-XkWXjNxQ&r=LhLRaZ6Kl2vKuhI6SnRTNEJ9kbmze_HQ29FMACS_FZQ&m=dDJr4AEQR77fGQhJMGn4koZHI6Yn9W90-7cI-hvINPs&s=TqXhhS-pwGqMf3vT1Sd7vxuFsFW2KSGrMzCwIJPiCwI&e=.

The USCG Web site for the event is: http://www.uscg.mil/marine_event. While the workshop is open to the public, meeting space is limited by room capacity. Since seating is limited, we ask anyone interested in attending the workshop to register in advance. The deadline for advance registration is Monday, October 2, 2017. Registration on the first day of the workshop will be permitted on a space-available basis. The registration fee for this event is $325 USD if submitted on or before October 2, 2017 and $375 USD if submitted after October 2, 2017. The registration fee includes admission for one person to each panel session for the two day event, several coffee breaks, and a reception on the first day of the event.

Proceedings

Material presented at the workshop will be made available to the public on the USCG Web site listed above after the conclusion of this event. For additional information on material presented at this event, you may contact one of the individuals listed above in FOR FURTHER INFORMATION CONTACT. Summaries of comments made and materials presented will be available on the docket at the conclusion of this event. To view the docket, see instructions above in ADDRESSES.

Information on Services for Individuals With Disabilities

Persons with disabilities who require special assistance should advise us of their anticipated special needs as early as possible by one of the individuals listed above in FOR FURTHER INFORMATION CONTACT.

Adjournment

Please note that the workshop may adjourn early if all business is finished.

Authority

This notice is issued under authority of 5 U.S.C. 552(a).

J.G. Lantz,
Director of Commercial Regulations and Standards, U.S. Coast Guard.

[FR Doc. 2017-16694 Filed 8-7-17; 8:45 am]

BILLING CODE P